DEPARTMENT OF LABOR

Employment and Training Administration

[TA-W-63,000]

Chrysler LLC, Manufacturing Truck and Activity Division, Jefferson North Assembly Plant, Including On-Site Leased Workers From Technical Engineering Consultants, Inc., Detroit, MI; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on March 28, 2008, applicable to workers of Chrysler LLC, Manufacturing Truck and Activity Division, Jefferson North Assembly Plant, Detroit, Michigan. The notice was published in the Federal Register on April 11, 2008 (73 FR 19899).

At the request of the State agency, the Department reviewed the certification for workers of the subject firm. The workers assemble Jeep Commanders and Jeep Grand Cherokees.

New information shows that leased workers of Technical Engineering Consultants, Inc. were employed on-site at the Detroit, Michigan location of Chrysler LLC, Manufacturing Truck and Activity Division, Jefferson North Assembly Plant. The Department has determined that these workers were sufficiently under the control of the subject firm to be considered leased workers.

Based on these findings, the Department is amending this certification to include leased workers of Technical Engineering Consultants, Inc. working on-site at the Detroit, Michigan location of the subject firm.

The intent of the Department's certification is to include all workers employed at Chrysler LLC, Manufacturing Truck and Activity Division, Jefferson North Assembly Plant who were adversely affected by increased imports.

The amended notice applicable to TA-W-63,000 is hereby issued as follows:

All workers of Chrysler LLC, Manufacturing Truck and Activity Division, Jefferson North Assembly Plant, including on-site leased workers from Technical Engineering Consultants, Inc., Detroit, Michigan, who became totally or partially separated from employment on or after March 12, 2007, through March 28, 2010, are eligible to apply for adjustment assistance under Section 223 of the Trade Act of 1974, and are also eligible to apply for alternative trade adjustment assistance under Section 246 of the Trade Act of 1974.

Signed at Washington, DC this 29th day of October 2008.
Richard Church,
Certifying Officer, Division of Trade Adjustment Assistance.

[FR Doc. E8-26535 Filed 11-6-08; 8:45 am]

BILLING CODE 4510-FN-P